DEPARTMENT OF VETERANS AFFAIRS

Voluntary Service National Advisory Committee; Notice of Meeting

The Department of Veterans Affairs (VA) gives notice under Public Law 92-463 (Federal Advisory Committee Act) that the Executive Committee of the Department of Veterans Affairs Voluntary Service (VAVS) National Advisory Committee (NAC) will meet October 12-13, 2006, at the Omni William Penn Hotel, Pittsburgh, Pennsylvania. The sessions will begin at 8:30 a.m. each day and end at 5 p.m. on October 12 and at 12 noon on October 13. The meeting is open to the public.

The NAC consists of 63 national organizations and advises the Secretary, through the Under Secretary for Health, on the coordination and promotion of volunteer activities within VA health care facilities. The Executive Committee consists of 19 representatives from the NAC member organizations and acts as the NAC governing body during the period between NAC annual meetings.

On October 12, agenda topics will include NAC goals and objectives, minutes of the May 2006 meeting, Veterans Health Administration update, VAVS update of the Voluntary Service program's progress, concerns since the May 2006 NAC annual meeting, Parke Board update, evaluations of the May 2006 annual meeting and plans for 2007 NAC annual meeting, to include workshops and plenary sessions.

On October 13, agenda topics will include 2008 NAC annual meeting planning, recommendations from May 2006 NAC annual meeting, subcommittee reports, standard operating procedure revisions, new business and Executive Committee appointments.

No time will be allocated at this meeting for receiving oral presentations from the public. However, interested persons may either attend or file statements with the Committee. Written statements may be filed either before the meeting or within 10 days after the meeting and addressed to: Ms. Laura Balun, Designated Federal Officer, Voluntary Service Office (10C2), Department of Veterans Affairs, 810 Vermont Avenue, NW., Washington, DC 20420. Ms. Balun can be contacted by phone at (202) 273-8952.

Dated: August 23, 2006.
By Direction of the Secretary.
E. Philip Riggin,
Committee Management Officer.

[FR Doc. 06-7222 Filed 8-29-06; 8:45 am]

BILLING CODE 8320-01-M